DEPARTMENT OF ENERGY

Federal Energy Regulatory Commission

Combined Notice of Filings #1

Take notice that the Commission received the following electric corporate filings:

Docket Numbers: EC17-62-000.

Applicants: NSTAR Electric Company, Western Massachusetts Electric Company.

Description: Application For Approval of Internal Corporate Reorganization under Section 203 of the FPA of NSTAR Electric Company, et al.

Filed Date: 1/13/17.

Accession Number: 20170113-5237.

Comments Due: 5 p.m. ET 2/3/17.

Docket Numbers: EC17-63-000.

Applicants: 62SK 8ME LLC, 63SU 8ME LLC, Balko Wind, LLC, Balko Wind Transmission, LLC, North Star Solar PV LLC, Portal Ridge Solar B, LLC, Portal Ridge Solar C, LLC, Red Horse Wind 2, LLC, Red Horse III, LLC, TPE Alta Luna, LLC.

Description: Application for Authorization of Transaction under Section 203 of the FPA of 62SK 8ME LLC.

Filed Date: 1/13/17.

Accession Number: 20170113-5240.

Comments Due: 5 p.m. ET 2/3/17.

Take notice that the Commission received the following exempt wholesale generator filings:

Docket Numbers: EG17-44-000.

Applicants: SolaireHolman 1 LLC.

Description: Notice of Self-Certification of Exempt Wholesale Generator Status of SolaireHolman 1 LLC.

Filed Date: 1/13/17.

Accession Number: 20170113-5087.

Comments Due: 5 p.m. ET 2/3/17.

Take notice that the Commission received the following electric rate filings:

Docket Numbers: ER16-1983-001.

Applicants: California Independent System Operator Corporation.

Description: Compliance filing: 2013-01-13 Petition Limited Tariff Waiver Delay Implementation RTD LMPM to be effective N/A.

Filed Date: 1/13/17.

Accession Number: 20170113-5201.

Comments Due: 5 p.m. ET 1/20/17.

Docket Numbers: ER17-79-002.

Applicants: Portland General Electric Company.

Description: Compliance filing: Combined Order 827 and 828 Amendment Filing to be effective 10/14/2016.

Filed Date: 1/17/17.

Accession Number: 20170117-5033.

Comments Due: 5 p.m. ET 2/7/17.

Docket Numbers: ER17-210-003.

Applicants: Sabine Cogen, LP.

Description: Compliance filing: Complaince Filing to be effective 1/1/2017.

Filed Date: 1/13/17.

Accession Number: 20170113-5168.

Comments Due: 5 p.m. ET 2/3/17.

Docket Numbers: ER17-556-000.

Applicants: Grady Wind Energy Center, LLC.

Description: Supplement to December 15, 2016 Grady Wind Energy Center, LLC tariff filing.

Filed Date: 1/12/17.

Accession Number: 20170112-5142.

Comments Due: 5 p.m. ET 2/2/17.

Docket Numbers: ER17-792-000.

Applicants: Michigan Electric Transmission Company, LLC.

Description: § 205(d) Rate Filing: Filing of Modifications to Agreement to be effective 3/15/2017.

Filed Date: 1/13/17.

Accession Number: 20170113-5162.

Comments Due: 5 p.m. ET 2/3/17.

Docket Numbers: ER17-793-000.

Applicants: Westar Energy, Inc.

Description: § 205(d) Rate Filing: Modification to TFR Template for AROs to Comply with Audit Report to be effective 3/14/2017.

Filed Date: 1/13/17.

Accession Number: 20170113-5172.

Comments Due: 5 p.m. ET 2/3/17.

Docket Numbers: ER17-794-000.

Applicants: Southern California Edison Company.

Description: § 205(d) Rate Filing: Certificate of Concurrence CAISO Amended TCA Docket No. ER17-694-000 to be effective 3/1/2017.

Filed Date: 1/13/17.

Accession Number: 20170113-5198.

Comments Due: 5 p.m. ET 2/3/17.

Docket Numbers: ER17-795-000.

Applicants: ISO New England Inc.

Description: § 205(d) Rate Filing: Filing of CONE and ORTP Updates to be effective 3/15/2017.

Filed Date: 1/13/17.

Accession Number: 20170113-5199.

Comments Due: 5 p.m. ET 2/3/17.

Docket Numbers: ER17-796-000.

Applicants: Midcontinent Independent System Operator, Inc., Consumers Energy Company.

Description: § 205(d) Rate Filing: 2017-01-12 SA 2913 Wolverine-Consumers FCA Termination to be effective 1/14/2017.

Filed Date: 1/13/17.

Accession Number: 20170113-5205.

Comments Due: 5 p.m. ET 2/3/17.

Docket Numbers: ER17-797-000.

Applicants: Midcontinent Independent System Operator, Inc.

Description: § 205(d) Rate Filing: 2017-01-13_Entergy Interconnection Agreement 2017 Succession Filing to be effective 12/19/2013.

Filed Date: 1/13/17.

Accession Number: 20170113-5213.

Comments Due: 5 p.m. ET 2/3/17.

Docket Numbers: ER17-798-000.

Applicants: Duke Energy Florida, LLC.

Description: Tariff Cancellation: DEF SA Cancellation Filing to be effective 1/18/2017.

Filed Date: 1/17/17.

Accession Number: 20170117-5131.

Comments Due: 5 p.m. ET 2/7/17.

Docket Numbers: ER17-799-000.

Applicants: Public Service Company of Colorado.

Description: § 205(d) Rate Filing: PSCo-HLYCRS-354-NOC to be effective 1/18/2017.

Filed Date: 1/17/17.

Accession Number: 20170117-5134.

Comments Due: 5 p.m. ET 2/7/17.

Take notice that the Commission received the following electric securities filings:

Docket Numbers: ES17-10-000.

Applicants: NSTAR Electric Company.

Description: Application of NSTAR Electric Company under Section 204 of the FPA for Authority to Assume Short-Term Debt Obligations of its affiliate, Western Mass Electric Company.

Filed Date: 1/13/17.

Accession Number: 20170113-5238.

Comments Due: 5 p.m. ET 2/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2017.
Nathaniel J. Davis, Sr.,
Deputy Secretary.

[FR Doc. 2017-01632 Filed 1-24-17; 8:45 am]

BILLING CODE 6717-01-P